DEPARTMENT OF COMMERCE

National Oceanic and Atmospheric Administration

Evaluation of State Coastal Management Programs

AGENCY: Office for Coastal Management (OCM), National Ocean Service (NOS), National Oceanic and Atmospheric Administration (NOAA), Department of Commerce (DOC).

ACTION: Notice of public meeting.

SUMMARY: The National Oceanic and Atmospheric Administration (NOAA), Office for Coastal Management will hold a public meeting to solicit comments on the performance evaluation of the Mississippi Coastal Management Program.

DATES: Mississippi Coastal Management Program Evaluation: The public meeting will be held on September 25, 2018, and written comments must be received on or before October 5, 2018.

For specific dates, times, and locations of the public meetings, see SUPPLEMENTARY INFORMATION.

ADDRESSES: You may submit comments on the program or reserve NOAA intends to evaluate by any of the following methods:

Public Meeting and Oral Comments: A public meeting will be held in Biloxi, Mississippi. For the specific location, see SUPPLEMENTARY INFORMATION.

Written Comments: Please direct written comments to Dr. Maria Honeycutt, Program Evaluator, NOAA Office for Coastal Management, 1305 East-West Highway N/OCM1, Silver Spring, Maryland 20910, or via email to Maria.Honeycutt@noaa.gov.

FOR FURTHER INFORMATION CONTACT: Maria Honeycutt, Ph.D., CFM, NOAA Office for Coastal Management, 1305 East-West Highway N/OCM1, Silver Spring, Maryland 20910, by phone at (240) 533-0726, or via email to Maria.Honeycutt@noaa.gov. Copies of the previous evaluation findings and 2016-2020 Assessment and Strategy may be viewed and downloaded on the internet at http://coast.noaa.gov/czm/evaluations. A copy of the evaluation notification letter and most recent progress report may be obtained upon request by contacting the person identified under FOR FURTHER INFORMATION CONTACT.

SUPPLEMENTARY INFORMATION: Section 312 of the Coastal Zone Management Act (CZMA) requires NOAA to conduct periodic evaluations of federally approved state and territorial coastal programs. The process includes one or more public meetings, consideration of written public comments, and consultations with interested Federal, state, and local agencies and members of the public. During the evaluation, NOAA will consider the extent to which the state has met the national objectives, adhered to the management program approved by the Secretary of Commerce, and adhered to the terms of financial assistance under the CZMA. When the evaluation is completed, NOAA's Office for Coastal Management will place a notice in the Federal Register announcing the availability of the Final Evaluation Findings.

You may participate or submit oral comments at the public meeting scheduled as follows:

Date: September 25, 2018

Time: 6:00 p.m., local time

Location: Bolton State Building, Public Meeting Room, 1141 Bayview Avenue, Biloxi, Mississippi 39530

Written public comments must be received on or before October 5, 2018.

(Federal Domestic Assistance Catalog 11.419. Coastal Zone Management Program Administration.)

Dated: July 17, 2018.
Keelin Kuipers,
Acting Deputy Director, Office for Coastal Management, National Ocean Service, National Oceanic and Atmospheric Administration.

[FR Doc. 2018-16284 Filed 7-30-18; 8:45 am]

BILLING CODE 3510-08-P